FEDERAL HOUSING FINANCE AGENCY

[No. 2024-N-10]

Federal Advisory Committee on Affordable, Equitable, and Sustainable Housing: Advisory Committee Meeting; Notice of Charter Renewal

AGENCY: Federal Housing Finance Agency.

ACTION: Notice of meeting; charter renewal.

SUMMARY: In accordance with the Federal Advisory Committee Act (FACA), as amended, the Federal Housing Finance Agency (FHFA) announces a meeting of the FHFA Advisory Committee on Affordable, Equitable, and Sustainable Housing (Committee). FHFA also announces the renewal of the charter of the Committee.

DATES: Tuesday, September 10, 2024, 12 p.m. to 5 p.m. eastern standard time (EST) and Wednesday, September 11, 2024, 9 a.m. to 12 p.m. EST.

ADDRESSES: Federal Housing Finance Agency, Constitution Center, 400 Seventh Street SW, Washington, DC 20219.

FOR FURTHER INFORMATION CONTACT: Paul Theruviparampil, Senior Policy Analyst, Office of Housing & Community Investment, Division of Housing Mission and Goals, (202) 649-3982, ACAESH@fhfa.gov; or Ted Wartell, Associate Director, Office of Housing & Community Investment, Division of Housing Mission and Goals, (202) 649-3157 (not toll-free numbers), Ted.Wartell@fhfa.gov, Federal Housing Finance Agency, Constitution Center, 400 Seventh Street SW, Washington, DC 20219. For TTY/TRS users with disabilities, dial 711 and ask to be connected to one of the contact numbers above.

SUPPLEMENTARY INFORMATION:

Notice of Open Meeting

Pursuant to FACA (5 U.S.C. chapter 10), a meeting of the Committee will be held on September 10 and 11, 2024. The meeting will be open to the public up to the capacity of the meeting room. The purpose of the meeting is to convene FHFA's first Committee meeting to discuss and advise on affordable, equitable, and sustainable housing.

Members of the public who wish to attend should contact ACAESH@fhfa.gov or (202) 649-3982 and provide their name, professional affiliation (if any), and phone number. Priority for in-person seating will be given to members of the Committee, and remaining seating will be reserved based upon when persons contact ACAESH@fhfa.gov. Individuals who wish to attend virtually may request a link to the virtual meeting platform. Due to limited seating availability, members of the public who wish to attend are encouraged to consider attending virtually. Attendees who require reasonable accommodation should make their requests by September 6, 2024. Requests received after that date will be considered but may not be possible to accommodate. Additionally, for security reasons, members of the public will be subject to security screening procedures and must present valid photo identification to enter the building.

Notice of Committee Charter Renewal and Objectives and Duties of the Committee

Pursuant to the FACA (5 U.S.C. chapter 10), FHFA announces the renewal of the charter of the Committee.

The purpose of the Committee is to advise FHFA in the exercise of its oversight functions regarding affordable, equitable, and sustainable housing, including but not limited to, affordable, equitable, and sustainable housing needs, barriers to access, barriers to long-term sustainability, and any regulatory, guidance, or policy changes that may be necessary or beneficial to expand such housing. The Committee will focus on FHFA's regulated entities—Fannie Mae, Freddie Mac, and the Federal Home Loan Banks—and their respective roles in providing a reliable source of liquidity and funding to support housing finance and community investment in the single-family and multifamily housing markets.

The duties of the Committee are solely advisory and extend only to its submission of advice and recommendations to FHFA, with supporting information and analysis, which are non-binding on FHFA.

No determinations of fact or policy are be made by the Committee. The Committee has no decision-making role, and will have no access to non-public FHFA information, including confidential supervisory or other confidential information.

Membership of the Committee

The FHFA Director will continue to appoint the members of the Committee as their terms expire. To achieve a fairly balanced membership, FHFA will continue to seek members representative of diverse communities, points of view, institution asset sizes, and geographical locations, with expertise in affordable, sustainable, or equitable housing in single-family and multifamily housing. The Committee will include members with expertise, applicable to Fannie Mae, Freddie Mac, or the Federal Home Loan Banks, in the areas related to the duties and authorities of the Committee, such as: (1) fair lending, fair housing, or civil rights; (2) single-family lending, servicing, development, mortgages, or capital markets; (3) multifamily lending, servicing, development, mortgages, capital markets, or investments (i.e. Low-Income Housing Tax Credits); (4) consumer, tenant, or community advocacy; (5) housing market technology; (6) state, local, or tribal government housing policies and programs; and (7) academic or non-academic affiliated housing research.

The Committee consists of approximately 20 members, serving two-year terms. Members serve at the sole discretion of the Director.

The Committee will meet regularly, as required to carry out its functions. It is estimated that the Committee will meet at least twice per year. Generally, Committee meetings will be open to the public.

Sandra L. Thompson,
Director, Federal Housing Finance Agency.

[FR Doc. 2024-18116 Filed 8-13-24; 8:45 am]

BILLING CODE 8070-01-P